DEPARTMENT OF THE INTERIOR

Office of the Assistant Secretary, Water and Science; Central Utah Project Completion Act; Notice of Intent to Negotiate a Contract among the Central Utah Water Conservancy District, Heber Light and Power, and the Department of the Interior for Non-Federal Hydroelectric Power Development at Jordanelle Dam, Central Utah Project, Utah

AGENCY: Office of the Assistant Secretary—Water and Science, Department of the Interior.

ACTION: Notice of intent to negotiate a contract among the Central Utah Water Conservancy District (District), Heber Light & Power (HL&P), and the Department of the Interior (Interior) for non-federal hydroelectric power development at Jordanelle Dam, Bonneville Unit, Central Utah Project (CUP), Utah.

SUMMARY: The CUP's Bonneville Unit, located in northern Utah, was authorized for construction, including hydroelectric power, by the Colorado River Storage Project (CRSP) Act of April 11, 1956 (ch. 203, 70 Stat. 105)(CRSPA). The United States constructed Jordanelle Dam under the CRSPA. The Central Utah Project Completion Act (CUPCA), comprised of Titles II-VI of the Act of October 30, 1992 (106 Stat. 4600, Pub. Law 102-575) authorized the construction of other features of the Bonneville Unit. Section 208 of the CUPCA provides that power generation facilities associated with the CUP be developed and operated in accordance with the CRSPA, which explicitly embodies all Reclamation law except as otherwise provided in the CRSPA.

In accordance with a Federal Register notice published July 2, 1999 (Volume 64, Number 127, Pages 36030—36032), Interior, in consultation with the Western Area Power Administration, selected the joint proposal of the District/HL&P to develop non-federal hydroelectric power at Jordanelle Dam through a lease of power privilege. A lease of power privilege is an alternative to federal hydroelectric power development. A lease of power privilege grants to a non-federal entity the right to utilize, consistent with CUP purposes, water power head or storage at and/or operationally in conjunction with the CUP, for non-federal electric power generation and sale by the entity. The general authority for lease of power privilege under Reclamation law includes, among others, the Town Sites and Power Development Act of 1906 (43 U.S.C. § 522) and the Reclamation Project Act of 1939 (43 U.S.C. § 485h(c)) (1939 Act).

Negotiation Meeting: Interior will hold a public negotiation meeting to negotiate a contract for the lease of power privilege at Jordanelle Dam among the District, HL&P, and Interior. The meeting will be held: Friday, November 17, 2000, 10 a.m., Central Utah Water Conservancy District, 355 West University Parkway, Orem, Utah.

The time and location of the meeting will also be announced in local media.

FOR FURTHER INFORMATION CONTACT: Additional information on matters related to this Federal Register notice can be obtained at the address and telephone number set forth below: Mr. Reed Murray, CUP Completion Act Office, Department of the Interior, 302 East 1860 South, Provo UT 84606-6154, (801) 379-1237, rmurray@uc.usbr.gov

Dated: October 10, 2000.
Ronald Johnston,
CUP Program Director, Department of the Interior.

[FR Doc. 00-27377 Filed 10-24-00; 8:45 am]

BILLING CODE 4310-RK-P